ENVIRONMENTAL PROTECTION AGENCY

[Docket ID No. EPA-HQ-ORD-2013-0357; FRL 9947-98-ORD]

Evaluating Urban Resilience to Climate Change: A Multi-Sector Approach

AGENCY: Environmental Protection Agency (EPA).

ACTION: Notice of public comment period.

SUMMARY: EPA is announcing a 30-day public comment period for the draft document titled “Evaluating Urban Resilience to Climate Change: A Multi-Sector Approach” (EPA/600/R-15/312). EPA is also announcing that Versar, Inc., an EPA contractor for external scientific peer review, will select four independent experts from a pool of eight to conduct a letter peer review of the same draft document. The document was prepared by the National Center for Environmental Assessment (NCEA) within EPA's Office of Research and Development (ORD). This document describes an assessment tool that uses quantitative and qualitative indicators to help cities identify areas of resilience and vulnerability to climate change impacts and introduces example case studies from Washington, DC and Worcester, Massachusetts.

EPA intends to forward the public comments that are submitted in accordance with this document to the external peer reviewers for their consideration during the letter peer review. When finalizing the draft document, EPA intends to consider any public comments received in response to this notice. EPA is releasing this draft document for the purposes of public comment and peer review. This draft document is not final as described in EPA's information quality guidelines and it does not represent and should not be construed to represent Agency policy or views. The draft document is available via the internet on EPA's Global Change Research Program Products and Publications Web page at https://www.epa.gov/risk/global-change-research-program-products-and-publications.

DATES: The 30-day public comment period begins June 21, 2016, and ends July 21, 2016. Technical comments should be in writing and must be received by EPA by July 21, 2016. The document will be available on or around June 22, 2016.

ADDRESSES: The external peer review draft, “Evaluating Urban Resilience to Climate Change: A Multi-Sector Approach,” is available primarily via the internet on the EPA's Global Change Research Program Products and Publications Web page at https://www.epa.gov/risk/global-change-research-program-products-and-publications. A limited number of paper copies are available from the Information Management Team, NCEA; telephone: 703-347-8561; facsimile: 703-347-8691. If you are requesting a paper copy, please provide your name, mailing address, and the document title.

Comments may be submitted electronically via www.regulations.gov, by mail, by facsimile, or by hand delivery/courier. Please follow the detailed instructions provided in the SUPPLEMENTARY INFORMATION section of this notice.

FOR FURTHER INFORMATION CONTACT: For information on the public comment period, contact the ORD Docket at the EPA Headquarters Docket Center; telephone: 202-566-1752; facsimile: 202-566-9744; or email: Docket_ORD@epa.gov.

For technical information, contact Susan Julius, NCEA; telephone: 703-347-8619; facsimile: 703-347-8694; or email: julius.susan@epa.gov.

SUPPLEMENTARY INFORMATION:

I. Information About the Document

Climate change impacts are diverse, long-term, and not easily predictable. Adapting to climate change requires making context specific and forward-looking decisions regarding a variety of climate change impacts and vulnerabilities when the future is highly uncertain. EPA scientists and their collaborators created an assessment tool to help cities identify climate change risks in eight different municipal sectors. The report identifies and tests indicators of traits that may enhance or inhibit communities' resilience to climate change, allowing decision-makers to focus planning efforts on those areas that are least resilient to anticipated impacts. The results yielded an approach that provides a way for cities to explore threats to and measures of resilience. It also demonstrates the utility of this systematic and flexible method in providing useful information for future adaptation planning for different types of cities.

II. How To Submit Technical Comments to the Docket at www.regulations.gov

Submit your comments, identified by Docket ID No. EPA-HQ-ORD-2013-0357, by one of the following methods:

• www.regulations.gov: Follow the on-line instructions for submitting comments.

• Email: Docket_ORD@epa.gov.

• Fax: 202-566-9744.

• Mail: U.S. Environmental Protection Agency, EPA Docket Center (ORD Docket), Mail Code: 28221T, 1200 Pennsylvania Avenue NW., Washington, DC 20460. The phone number is 202-566-1752.

• Hand Delivery: The ORD Docket is located in the EPA Headquarters Docket Center, EPA West Building, Room 3334, 1301 Constitution Avenue NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2013-0357. Please ensure that your comments are submitted within the specified comment period. Comments received after the closing date will be marked “late,” and may only be considered if time permits. It is the EPA's policy to include all comments it receives in the public docket without change and to make the comments available online at www.regulations.gov, including any personal information provided, unless a comment includes information claimed to be Confidential Business Information (CBI) or other information whose disclosure is restricted by statute. Do not submit information through www.regulations.gov or email that you consider to be CBI or otherwise protected. The www.regulations.gov Web site is an “anonymous access” system, which means the EPA will not know your identity or contact information unless you provide it in the body of your comment. If you send an email comment directly to the EPA without going through www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www2.epa.gov/dockets.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Dated: June 9, 2016.
Mary A. Ross,
Deputy Director, National Center for Environmental Assessment.

[FR Doc. 2016-14666 Filed 6-20-16; 8:45 am]

BILLING CODE 6560-50-P